DEPARTMENT OF TRANSPORTATION

Federal Aviation Administration

Public Notice for a Change in Use of Aeronautical Property at Beverly Municipal Airport, Beverly, Massachusetts

AGENCY: Federal Aviation Administration (FAA), DOT.

ACTION: Request for public comments.

SUMMARY: The FAA is requesting public comment on the City of Beverly, Massachusetts' request to change 10.3 acres of vacant land located in the approach to Runway 34 to industrial use. The land will be sold to an abutter for expansion of a manufacturing building. The land was acquired under FAAP 9-19-026-D603. The disposition of proceeds from the disposal of airport property will be in accordance with FAA's Policy and Procedures Concerning the Use of Airport Revenue, published in the Federal Register on February 16, 1999.

DATES: Comments must be received on or before September 15, 2005.

ADDRESSES: Documents are available for review by appointment by contacting Mr. Robert Mezzetti, Airport Manager at Beverly Municipal Airport, 46 L.P. Hendersen Road, Beverly, Massachusetts 01915, Telephone 978-921-6072 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803. Telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts on July 25, 2005.
LaVerne F. Reid,
Manager, Airports Division, New England Region.

[FR Doc. 05-16157 Filed 8-15-05; 8:45 am]

BILLING CODE 4910-13-M